DEPARTMENT OF ENERGY

[Docket No. EA-184-A]

Application To Export Electric Energy; Morgan Stanley Capital Group Inc.

AGENCY: Office of Electricity Delivery and Energy Reliability, DOE.

ACTION: Notice of application.

SUMMARY: Morgan Stanley Capital Group Inc. (MSCG) has applied to renew its authorization to transmit electric energy from the United States to Mexico pursuant to section 202(e) of the Federal Power Act.

DATES: Comments, protests or requests to intervene must be submitted on or before June 5, 2006.

ADDRESSES: Comments, protests or requests to intervene should be addressed as follows: Office of Electricity Delivery and Energy Reliability (Mail Code OE-20), U.S. Department of Energy, 1000 Independence Avenue, SW., Washington, DC 20585-0350 (FAX 202-586-5860).

FOR FURTHER INFORMATION CONTACT: Xavier Puslowski (Program Office) 202-586-4708 or Michael Skinker (Program Attorney) 202-586-2793.

SUPPLEMENTARY INFORMATION: Exports of electricity from the United States to a foreign country are regulated and require authorization under section 202(e) of the Federal Power Act (FPA) (16 U.S.C. 824a(e)).

On July 23, 1998, the Department of Energy (DOE) issued Order No. EA-184 authorizing MSCG to transmit electric energy from the United States to Mexico. That Order expired on July 23, 2000. On April 27, 2006, MSCG filed an application with DOE to renew the export authority contained in Order No. EA-184 for a five-year term.

MSCG proposes to export electric energy to Mexico and to arrange for the delivery of those exports over the international transmission facilities presently owned by San Diego Gas & Electric Company, El Paso Electric Company, Central Power & Light Company and Comission Federal de Electricidad, the national electric utility of Mexico.

Procedural Matters: Any person desiring to become a party to this proceeding or to be heard by filing comments or protests to these applications should file a petition to intervene, comment or protest at the address provided above in accordance with §§ 385.211 or 385.214 of the FERC's Rules of Practice and Procedures (18 CFR 385.211, 385.214). Fifteen copies of each petition and protest should be filed with the DOE on or before the date listed above.

Comments on the MSCG application to export electric energy to Mexico should be clearly marked with Docket EA-184-A. Additional copies are to be filed directly with William F. McCoy, Managing Director and Counsel, Morgan Stanley & Co. Inc., 2000 Westchester Avenue, Purchase, NY 10577 and Daniel E. Frank, Sutherland Asbill & Brennan LLP, 1275 Pennsylvania Avenue, NW., Washington, DC 20004-2415.

A final decision will be made on this application after the environmental impacts have been evaluated pursuant to the National Environmental Policy Act of 1969, and a determination is made by the DOE that the proposed action will not adversely impact on the reliability of the U.S. electric power supply system.

Copies of this application will be made available, upon request, for public inspection and copying at the address provided above or by e-mailing Odessa Hopkins at Odessa.hopkins@hq.doe.gov.

Issued in Washington, DC, on May 16, 2006.
Anthony J. Como,
Director, Permitting and Siting, Office of Electricity Delivery and Energy Reliability.

[FR Doc. E6-7672 Filed 5-18-06; 8:45 am]

BILLING CODE 6450-01-P